DEPARTMENT OF JUSTICE

[AAG/A Order No. 201-2000]

Privacy Act of 1974; System of Records

Pursuant to the Privacy Act of 1974 (5 U.S.C. 552a), notice is given that the Federal Bureau of Prisons (Bureau) proposes to establish a new system of records entitled, “Employee Assistance Program (“EAP”) Record System” (JUSTICE/BOP-014). This system, which will become effective September 29, 2000, is being established to assist staff in providing crisis intervention, assessment, counseling, and referrals to outside treatment providers for Bureau employees who are experiencing personal or work-related problems.

Title 5 U.S.C. 552a(e)(4) and (11) provide that the public be provided a 30-day period in which to comment on the routine uses of a new system. The Office of Management and Budget (OMB), which has oversight responsibilities under the Privacy Act, requires a 40-day period in which to review the system.

Therefore, please submit any comments by September 29, 2000. The public, OMB, and the Congress are invited to send written comments to Mary Cahill, Management and Planning Staff, Justice Management Division, Department of Justice, Washington, DC 20530 (1400 National Place Building).

A description of the system of records is provided below. In addition, the Department of Justice has provided a report to OMB and the Congress in accordance with 5 U.S.C. 552a(r).

Dated: July 20, 2000.
Stephen R. Colgate,
Assistant Attorney General for Administration.

JUSTICE/BOP-014

SYSTEM NAME:

Employee Assistance Program Record System.

SYSTEM LOCATION:

Records may be retained at the Central Office, Regional Offices, and at any of the Bureau of Prisons (Bureau) facilities. A list of these system locations may be found at 28 CFR part 503 and on the Internet at http://www.bop.gov.

CATEGORIES OF INDIVIDUALS COVERED BY THE SYSTEM:

Current and former employees of the Bureau of Prisons who have sought counseling or been referred for treatment or referral through the Employee Assistance Program (EAP). To the limited degree that treatment and referral may be provided to family members of Bureau employees, these individuals are also covered by the system. The remainder of this notice will refer to all persons covered by the system as “EAP client(s).”

CATEGORIES OF RECORDS IN THE SYSTEM:

The system contains records of EAP clients who have sought or been referred to the EAP for treatment and/or referral. These records may include the following:

(1) Identification data, including name, Social Security number, driver's license number, Bureau employee number, EAP system-generated number, job title and/or series, age and/or date of birth, sex, financial history, medical/mental health insurance information, home and/or work addresses, e-mail addresses and telephone numbers;

(2) Information from other Bureau staff and/or the employee's supervisor, on work place or performance problems, address and telephone numbers for the supervisor and/or other Bureau staff, and referral memoranda and/or e-mail correspondence from the employee's supervisor and/or other staff;

(3) Information and correspondence from outside sources, e.g. initial contacts from interested persons who are not Bureau staff;

(4) Information generated by EAP staff concerning the EAP client, including background information, assessment, prognosis and counseling details;

(5) Information concerning referrals to community-based treatment programs or individuals, including the initial referral, addresses, telephone numbers, and credentials of treatment facilities or individuals providing treatment, and records of the employee's attendance, billing accounts, and progress;

(6) Pertinent employee records including leave and/or work Time and Attendance (T and A) records, written consent forms, disciplinary actions and/or abeyance agreements, drug testing records and information on confirmed unjustified positive drug tests.

AUTHORITY FOR MAINTENANCE OF THE SYSTEM:

42 U.S.C. 290dd et seq.; 42 CFR part 2; Executive Order 12564; 5 U.S.C. 3301, 7361, 7362, 7901 and 7904; 44 U.S.C. 3101 and Pub. L. 100-71, 101 Stat. 391, Sec. 503 (July 11, 1987).

PURPOSE OF THE SYSTEM:

These records assist EAP staff in the execution of its assessment, counseling and referral function. They document the nature and effects of EAP client problems and counseling by EAP staff, referral to, and participation in, outside treatment and counseling programs, and the EAP client's progress. These records may also be used to track compliance with abeyance agreements made to mitigate employee discipline actions.

ROUTINE USES OF RECORDS MAINTAINED IN THE SYSTEM, INCLUDING CATEGORIES OF USERS AND THE PURPOSES OF SUCH USES:

Relevant data from this system will be disclosed as follows:

(a) To appropriate State or local authorities to report incidents of suspected child, elder, or domestic abuse and/or neglect, as required under State law;

(b) To any person or entity to the extent necessary to meet a bona fide medical emergency;

(c) To any person or entity to the extent necessary to prevent immediate loss of life or serious bodily injury;

(d) To referral community health care providers authorized to provide services to EAP clients, to the extent that it is appropriate, relevant, and necessary to enable the provider to perform such services as evaluation, counseling, treatment, and/or rehabilitation; and

(e) To any person who is responsible for the care of an EAP client when the EAP client to whom the records pertain is mentally incompetent or under legal disability.

POLICIES AND PRACTICES FOR STORING, RETRIEVING, ACCESSING, RETAINING, AND DISPOSING OF RECORDS IN THE SYSTEM:

STORAGE:

Documentary records are maintained in manual file folders and/or index cards and stored in locked GSA security-approved containers. Computer records are stored in electronic media via a configuration of personal computer, client/server, and mainframe systems architecture, using hard drives, floppy diskettes, CDs, magnetic tape, and/or optical disks.

RETRIEVABILITY:

Records are indexed and retrieved only by a personal code number generated by the system.

SAFEGUARDS:

Electronic information is safeguarded in accordance with Bureau of Prisons rules and policy governing automated information systems security and access. These safeguards include the maintenance of records and technical equipment in restricted areas, and the required use of proper passwords and user identification codes to access the system. Documentary records are kept in locked GSA security-approved containers in restricted access buildings. Only the EAP Administrator or designated Bureau staff will access or disclose the records.

RETENTION AND DISPOSAL:

Records are retained for three years after the EAP client ceases contact with the EAP counselor (in accordance with General Records Schedule No. 1, Item No. 26) unless a longer retention period is necessary because of pending administrative or judicial proceedings. In such cases, the records are retained for six months after the case is closed. Computerized records are destroyed by shredding, degaussing, etc., and documentary records are destroyed by shredding. All destruction of records must be performed by an EAP staff member.

System Manager(s) and address:

National Employee Assistance Program Coordinator, Federal Bureau of Prisons, 320 First Street NW., Washington, DC 20534.

Notification Procedure:

Inquiries concerning this system should be directed to the System Manager listed above.

Record access procedures:

All requests for records may be made in writing to the Director, Federal Bureau of Prisons, 320 First Street NW., Washington, DC 20534, and should be clearly marked “Privacy Act Request.” In addition to a return address, requesters should provide the full name and notarized signature of the individual who is the subject of the record and is authorizing release of his/her information, the dates during which the individual was in counseling, and any other information which may assist in identifying and locating the record. Pursuant to 28 CFR 16.41(d), an original signature on a “Certification of Identity” form (DOJ-361) may be submitted in lieu of a notarized signature. This form may be obtained from the Department of Justice website at http://www.usdoj.gov or by writing to the FOIA/PA Office, Bureau of Prisons, 320 First St. NW., Washington, DC 20534.

Contesting record procedures:

All requests to contest or amend information should be directed to the Director of the Federal Bureau of Prisons at the address listed above. The request should follow the Record Access Procedures, listed above, and should state clearly and concisely the information being contested, the reason for contesting it, and the proposed amendment thereof. The envelope should be clearly marked, “Privacy Act Request.”

Record source categories:

Records are generated by Bureau staff, outside sources, referral counseling and treatment programs or individuals, and the EAP client who is the subject of the record. In the case of drug abuse counseling, records also may be generated by staff of the Drug-Free Workplace Program and the Medical Review Officer.

Systems exempted from certain provisions of the act:

None.

[FR Doc. 00-19202 Filed 7-28-00; 8:45 am]

BILLING CODE 4410-CJ-M